OFFICE OF PERSONNEL MANAGEMENT

Excepted Service

AGENCY: Office of Personnel Management.

ACTION: Notice.

SUMMARY: This gives notice of OPM decisions granting authority to make Appointments under Schedules A, B and C in the excepted service as required by 5 CFR 6.6 and 213.103.

FOR FURTHER INFORMATION CONTACT: Ms. Delores Everett, Center for Leadership and Executive Resources Policy, Division for Strategic Human Resources Policy, 202-606-1050.

SUPPLEMENTARY INFORMATION: Appearing in the listing below are the individual authorities established under Schedule C between March 1, 2004, and March 31, 2004. Future notices will be published on the fourth Tuesday of each month, or as soon as possible thereafter. A consolidated listing of all authorities as of June 30 is published each year.

Schedule A

The following Schedule A appointments were approved for March 2004:

Section 213.3102(i)(3) Department of Agriculture

Schedule A exception for temporary positions dealing with Bovine Spongiform Encephalopathy or “Mad Cow” disease.

• Consumer Safety Officer, GS-696-11 through 13;

• Compliance Officer, GS-1801-09 through 13;

• Public Affairs Officer, GS-1035-09 through 13;

• Technical Information Specialist, GS-1412-09 through 13;

• Food Inspector, GS-1863-05 and 7;

• Math Statistician, GS-1529-09 through 14;

• Program Analyst, GS-0343-09 through 14 (regulation writers only);

• Food Technologist, GS-1382-09 through 14; and

• Physical Scientist, GS-1301-09 through 14.

Employment under this authority may not exceed 1 year. Temporary appointments are subject to the service limits in title 5, Code of Federal Regulations, section 213.104. In making appointments to these positions, please cite Schedule A, section 213.3102(i)(3) as the appointing authority. Effective March 15, 2004.

Section 213.3111 Department of Homeland Security

(a) Up to 50 positions at the GS-5 through 15 grade levels at the Department of Homeland Security. No new appointments may be made under this authority after September 30, 2004. Effective March 31, 2004.

Schedule B

No Schedule B appointments for March 2004.

Schedule C

The following Schedule C appointments were approved for March 2004:

Section 213.3303 Executive Office of the President

Office of Management and Budget

BOGS60030 Confidential Assistant to the Associate Director for E-Government and Information Technology. Effective March 04, 2004.

BOGS00085 Special Assistant to the Administrator, E-Government and Information Technology. Effective March 15, 2004.

Office of Science and Technology Policy

TSGS60032 Assistant to the Director for Legislative Affairs to the Chief of Staff and General Counsel. Effective March 01, 2004.

Section 213.3304 Department of State

DSGS60750 Special Assistant to the Under Secretary for Public Diplomacy and Public Affairs. Effective March 16, 2004.

DSGS60756 Special Assistant to the Under Secretary for Global Affairs. Effective March 23, 2004.

DSGS60758 Special Assistant to the Under Secretary for Arms Control and Security Affairs. Effective March 31, 2004.

Section 213.3305 Department of the Treasury

DYGS60405 Special Assistant to the Assistant Secretary (Deputy Under Secretary) Legislative Affairs. Effective March 12, 2004.

DYGS00441 Director of Outreach to the Deputy Assistant Secretary. Effective March 30, 2004.

Section 213.3306 Department of Defense

DDGS16796 Staff Assistant to the Deputy Assistant Secretary of Defense (Forces Policy). Effective March 30, 2004.

DDGS16797 Staff Assistant to the Deputy Under Secretary of Defense (Special Plans and Near East/South Asian Affairs). Effective March 31, 2004.

DDGS16799 Defense Fellow to the Special Assistant to the Secretary of Defense for White House Liaison. Effective March 31, 2004.

DDGS16802 Special Assistant to the Deputy Under Secretary of Defense (International Technology Security). Effective March 31, 2004.

Section 213.3307 Department of the Army

DWGS00077 Confidential Assistant to the Assistant Secretary of the Army (Civil Works). Effective March 19, 2004.

Section 213.3310 Department of Justice

DJGS00189 Counsel to the Assistant Attorney General Civil Division. Effective March 22, 2004.

DJGS00187 Counsel to the Assistant Attorney General Civil Division. Effective March 31, 2004.

DJEX00290 Director, Alcohol, Tobacco, Firearms and Explosives to the Attorney General. Effective March 31, 2003.

Section 213.3311 Department of Homeland Security

DMGS00199 Staff Assistant to the Chief of Staff for Immigration and Customs Enforcement. Effective March 01, 2004.

DMGS00202 Director of Policy to the Chief of Staff. Effective March 01, 2004.

DMGS00210 Press Secretary to the Deputy Director of Communications for Emergency Preparedness and Response. Effective March 09, 2004.

DMGS00196 Executive Assistant to the Under Secretary for Science and Technology. Effective March 10, 2004.

DMGS00197 Policy Assistant to the Director for Domestic Preparedness. Effective March 10, 2004.

DMGS00203 Public Liaison Officer to the Director of Public Liaison. Effective March 10, 2004.

DMGS00206 Press Assistant to the Director of Communications. Effective March 12, 2004.

DMGS00204 Deputy Press Secretary to the Press Secretary. Effective March 15, 2004.

DMGS00207 Assistant Press Secretary to the Press Secretary. Effective March 15, 2004.

DMGS00205 Executive Assistant to the Assistant Secretary for Plans, Programs and Budgets. Effective March 17, 2004.

DMGS00209 Public Liaison Officer to the Director of Public Liaison. Effective March 22, 2004.

DMGS00214 Communications Director for Immigration and Customs Enforcement to the Chief of Staff for Immigration and Customs Enforcement. Effective March 30, 2004.

DMGS00217 Legislative Assistant to the Assistant Secretary for Legislative Affairs. Effective March 31, 2004.

Section 213.3312 Department of the Interior

DIGS60133 Chief, Office of Congressional and Legislative Affairs to the Director, External and Intergovernmental Affairs. Effective March 05, 2004.

DIGS60467 Special Assistant to the Director, United States Fish and Wildlife Service. Effective March 05, 2004.

DIGS61012 Special Assistant—Advance to the Director of Scheduling and Advance. Effective March 23, 2004.

Section 213.3313 Department of Agriculture

DAGS00700 Special Assistant to the Assistant Secretary for Congressional Relations. Effective March 15, 2004.

DAGS00702 Presidential Management Agenda Coordinator to the Assistant Secretary for Administration. Effective March 30, 2004.

Section 213.3314 Department of Commerce

DCGS60302 Director of External Affairs to the Director, Office of Public and Constituent Affairs. Effective March 01, 2004.

DCGS00200 Special Assistant to the Deputy Assistant Secretary for Legislative and Intergovernmental Affairs. Effective March 05, 2004.

DCGS00620 Director, Office of Legislative Affairs to the Under Secretary for International Trade. Effective March 05, 2004.

DCGS60596 Confidential Assistant to the Director of Public Affairs. Effective March 05, 2004.

DCGS00467 Confidential Assistant to the Deputy Chief of Staff for Policy. Effective March 17, 2004.

DCGS00531 Confidential Assistant to the Deputy Assistant Secretary for Export Promotion Services. Effective March 26, 2004.

Section 213.3315 Department of Labor

DLGS06119 Special Assistant to the Director of Scheduling and Advance. Effective March 03, 2004.

DLGS60003 Special Assistant to the Chief of Staff. Effective March 23, 2004.

DLGS60225 Staff Assistant to the Assistant Secretary for Public Affairs. Effective March 25, 2004.

Section 213.3316 Department of Health and Human Services

DHGS60383 Special Assistant to the Assistant Secretary for Public Affairs. Effective March 03, 2004.

DHGS00492 Deputy White House Liaison for Boards and Committees to the Chief of Staff. Effective March 15, 2004.

DHGS60665 Deputy Director for Policy, Intergovernmental Affairs to the Director of Intergovernmental Affairs. Effective March 15, 2004.

DHGS00378 Special Assistant to the Assistant Secretary for Public Affairs. Effective March 16, 2004.

Section 213.3317 Department of Education

DBGS00309 Special Assistant to the Chief of Staff. Effective March 05, 2004.

DBGS00314 Confidential Assistant to the Associate Deputy Under Secretary for Improvement and Reform. Effective March 05, 2004.

DBGS00316 Special Assistant to the Assistant Secretary for Legislation and Congressional Affairs. Effective March 05, 2004.

DBGS00313 Deputy Secretary's Regional Representative to the Assistant Secretary for Intergovernmental and Interagency Affairs. Effective March 08, 2004.

DBGS00315 Special Assistant to the Deputy Secretary of Education. Effective March 08, 2004.

DBGS00318 Special Assistant to the Deputy Assistant Secretary for Intergovernmental, Constituent Relations and Corporate Liaison. Effective March 09, 2004.

DBGS00319 Deputy Secretary's Regional Representative to the Deputy Assistant Secretary for Regional Services. Effective March 09, 2004.

DBGS00320 Confidential Assistant to the Deputy Assistant Secretary for Special Education and Rehabilitative Services. Effective March 12, 2004.

DBGS00321 Special Assistant to the Assistant Secretary for Elementary and Secondary Education. Effective March 26, 2004.

Section 213.3318 Environmental Protection Agency

EPGS04002 Director of Press Advance and Special Assistant for Communications to the Deputy Associate Administrator for the Office of Public Affairs. Effective March 26, 2004.

Section 213.3325 United States Tax Court

JCGS60080 Secretary (Confidential Assistant) to the Chief Judge. Effective March 03, 2004.

Section 213.3330 Securities and Exchange Commission

SEOT60032 Director of Public Affairs to the Chairman. Effective March 12, 2004.

Section 213.3331 Department of Energy

DEGS00405 Special Assistant to the Assistant Secretary for Congressional and Intergovernmental Affairs. Effective March 08, 2004.

DEGS00406 Special Assistant to the Assistant Secretary for Congressional and Intergovernmental Affairs. Effective March 12, 2004.

DEGS00409 Special Assistant to the Director, Public Affairs. Effective March 17, 2004.

DEGS00407 Daily Scheduler to the Director, Office of Scheduling and Advance. Effective March 25, 2004.

DEGS00411 Policy Advisor to the Director, Office of Science. Effective March 31, 2004.

Section 213.3332 Small Business Administration

SBGS60010 Senior Advisor to the Chief Operating Officer and Chief Information Officer. Effective March 04, 2004.

SBGS60153 Deputy Associate Administrator for Intergovernmental Affairs to the Associate Administrator for Field Operations. Effective March 04, 2004.

SBGS60208 Special Assistant to the Associate Deputy Administrator for Entrepreneurial Development. Effective March 04, 2004.

SBGS60154 Deputy Director, External Affairs to the Director of External Affairs. Effective March 15, 2004.

SBGS60043 Special Assistant to the Associate Administrator for Congressional and Legislative Affairs. Effective March 16, 2004.

SBGS60535 Senior Advisor to the Associate Deputy Administrator for Entrepreneurial Development. Effective March 19, 2004.

SBGS60356 Special Assistant to the Associate Administrator for Strategic Alliances. Effective March 26, 2004.

Section 213.3337 General Services Administration

GSGS00150 Congressional Relations Officer to the Associate Administrator for Congressional and Intergovernmental Affairs. Effective March 05, 2004.

GSGS00132 Special Assistant to the Regional Administrator, Region 10, Auburn, Washington. Effective March 22, 2004.

GSGS00130 Special Assistant to the Regional Administrator, Region 7, Fort Worth, Texas. Effective March 23, 2004.

GSGS00133 Congressional Relations Analyst to the Associate Administrator for Congressional and Intergovernmental Affairs. Effective March 25, 2004.

Section 213.3339 United States International Trade Commission

TCGS60018 Staff Assistant (Legal) to the Commissioner. Effective March 08, 2004.

Section 213.3344 Occupational Safety and Health Review Commission

SHGS00003 Confidential Assistant to the Commissioner Member. Effective March 19, 2004.

Section 213.3348 National Aeronautics and Space Administration

NNGS00024 Writer—Editor to the Assistant Administrator for Public Affairs. Effective March 25, 2004.

Section 213.3384 Department of Housing and Urban Development

DUGS60438 Director, Office of Insured Health Care Facilities to the Assistant Secretary for Housing, Federal Housing Commissioner. Effective March 03, 2004.

Authority: 5 U.S.C. 3301 and 3302; E.O. 10577, 3 CFR 1954-1958 Comp., p. 218.

Office of Personnel Management.
Kay Coles James,
Director.

[FR Doc. 04-9421 Filed 4-23-04; 8:45 am]

BILLING CODE 6325-39-P